DEPARTMENT OF ENERGY

Federal Energy Regulatory Commission

[Project No. 15312-000]

County of Alameda, CA; Notice of Preliminary Permit Application Accepted for Filing and Soliciting Comments, Motions To Intervene, and Competing Applications

On May 26, 2023, MQR Storage, LLC, filed an application for a preliminary permit, pursuant to section 4(f) of the Federal Power Act (FPA), proposing to study the feasibility of the MQR Pumped Storage Water Battery Project to be located near the City of Tracy in Alameda County, California. The sole purpose of a preliminary permit, if issued, is to grant the permit holder priority to file a license application during the permit term. A preliminary permit does not authorize the permit holder to perform any land-disturbing activities or otherwise enter upon lands or waters owned by others without the owners' express permission.

This proposed project would consist of the following: (1) a new 52-acre upper reservoir, with an anticipated maximum water surface elevation is approximately 1,640 feet above means sea level (msl), that would be formed by a 1,052-foot-long, 210-foot-high embankment dam, a 677-foot-long, 150-foot-high embankment dam, and a 508-foot-long, 80-foot-high saddle dam; (2) a 25-foot-diameter steel penstock, shaft, and pressure tunnel connecting the upper reservoir to new 210-foot by 125-foot powerhouse containing two 140-megawatt turbine generator units; (3) a draft tube extension tunnel joining a tailrace tunnel that extends into the new lower reservoir; (4) a new 40-acre lower reservoir, with an anticipated maximum water surface elevation of 940 feet msl, that would be formed by a 946-foot-long, 250-foot-high roller compacted concrete dam; (5) a 30-inch-diameter, 8-mile-long pipeline connecting the upper reservoir to either the City of Tracy's or the City of Livermore's water treatment plant for supply water for the initial fill and refill of the reservoir; (6) a new 1.75-mile-long, 230-kilovolt transmission line connecting the powerhouse to PG&E's Tesla substation; and (7) appurtenant facilities. The average annual energy production of the proposed project is estimated to be approximately 368 gigawatt-hours.

Applicant Contact: Mr. Nicholas Sher, MQR Storage, LLC, 4421 Webster St., Oakland, CA 94609; email: nicholas@MQRstorage.com; phone: (510) 435-9145.

FERC Contact: Everard Baker; email: everard.baker@ferc.gov; phone: (202) 502-8554.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary Kimberly Bose, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-15312-000.

More information about this project, including a copy of the application, can be viewed or printed on the “eLibrary” link of Commission's website at http://www.ferc.gov/docs-filing/elibrary.asp. Enter the docket number (P-15312) in the docket number field to access the document. For assistance, contact FERC Online Support.

Dated: August 30, 2023.
Kimberly D. Bose,
Secretary.

[FR Doc. 2023-19218 Filed 9-6-23; 8:45 am]

BILLING CODE 6717-01-P